DEPARTMENT OF COMMERCE

Economic Development Administration

[Docket No: 070921532-7533-01]

Membership of the Economic Development Administration Performance Review Board

AGENCY: Economic Development Administration, Department of Commerce.

ACTION: Notice of Membership on the Economic Development Administration's Performance Review Board.

SUMMARY: In accordance with 5 U.S.C. 4314(c)(4), the Economic Development Administration (EDA), Department of Commerce (DOC), announces the appointment of those individuals who have been selected to serve as members of EDA's Performance Review Board. The Performance Review Board is responsible for (1) reviewing performance appraisals and ratings of Senior Executive Service (SES) members and (2) making recommendations to the appointing authority on other performance management issues, such as pay adjustments, bonuses and Presidential Rank Awards for SES members. The appointment of these members to the Performance Review Board will be for a period of twenty-four (24) months.

DATES: The period of appointment for those individuals selected for EDA's Performance Review Board begins on September 28, 2007.

FOR FURTHER INFORMATION CONTACT: Sandra R. Walters, Economic Development Administration, Office of Management Services, Department of Commerce, Room 7217, 1401 Constitution Avenue, NW., Washington, DC 20230; telephone: 202-482-5892.

SUPPLEMENTARY INFORMATION: In accordance with 5 U.S.C. 4314(c)(4), EDA announces the appointment of those individuals who have been selected to serve as members of EDA's Performance Review Board. The Performance Review Board is responsible for (1) reviewing performance appraisals and ratings of Senior Executive Service (SES) members and (2) making recommendations to the appointing authority on other performance management issues, such as pay adjustments, bonuses and Presidential Rank Awards for SES members. The appointment of these members to the Performance Review Board will be for a period of twenty-four (24) months beginning on September 28, 2007. The name, position title, and type of appointment of each member of EDA's Performance Review Board are set forth below by organization:

Department of Commerce, Office of the Secretary

Lisa Casias, Deputy CFO and Director for Financial Management (Chairperson).

Deborah Jefferson, Director, Office of Human Resources Management.

Barbara Retzlaff, Director, Office of Budget.

Department of Commerce, Economic Development Administration

Otto Barry Bird, Chief Counsel.

Matthew Crow, Deputy Assistant Secretary for External Affairs and Communication.

Dated: September 24, 2007.
Sandra R. Walters,
Deputy Chief Financial Officer and Director, Administrative and Support Services Division.

[FR Doc. E7-19218 Filed 9-27-07; 8:45 am]

BILLING CODE 3510-24-P